INTERNATIONAL TRADE COMMISSION

[Investigation No. 337-TA-985]

Certain Surgical Stapler Devices and Components Thereof; Commission Decision Not To Review an Initial Determination Terminating the Investigation in Its Entirety Based on a Consent Order Stipulation and Proposed Consent Order; Issuance of Consent Order; Termination of Investigation

AGENCY: U.S. International Trade Commission.

ACTION: Notice.

SUMMARY: Notice is hereby given that the U.S. International Trade Commission has determined not to review the presiding administrative law judge's (“ALJ”) initial determination (“ID”) (Order No. 4), granting a joint motion to terminate the investigation based on a consent order stipulation and proposed consent order in the above-captioned investigation. The consent order is issued and the investigation is terminated.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission TDD terminal on (202) 205-1810.

SUPPLEMENTARY INFORMATION: The Commission instituted this investigation on February 16, 2016, based on a complaint filed by Covidien LP of Mansfield, Massachusetts (“Covidien”). 81 FR 7830-31 (Feb. 16, 2016). The complaint alleged violations of section 337 of the Tariff Act of 1930, as amended (19 U.S.C. 1337), in the importation into the United States, the sale for importation, or the sale within the United States after importation of surgical stapler devices and components thereof, by reason of infringement of certain claims of U.S. Patent Nos. 6,669,073; 8,342,377; and 6,079,606. The notice of investigation named Chongqing QMI Surgical Co., Ltd. of Chongqing, China (“QMI”) as respondent. The Office of Unfair Import Investigations was also named as a party.

On March 1, 2016, Covidien and QMI jointly moved for termination of the investigation in its entirety based on a consent order stipulation and proposed consent order. See 19 CFR 210.21(c). On March 10, 2016, the Commission investigative attorney responded in support of the motion. No other responses were submitted.

On March 10, 2016, the ALJ issued the subject ID, granting the joint motion. The ID finds that the consent order stipulation and proposed consent order comply with Commission rules, see 19 CFR 210.21(c)(3)-(c)(4), and that granting the motion would not adversely affect the public interest, id. § 210.50(b)(2). ID at 2-4.

No petitions for review of the ID were filed.

The Commission has determined not to review the ID and to issue the consent order.

The authority for the Commission's determination is contained in section 337 of the Tariff Act of 1930, as amended (19 U.S.C. 1337), and in Part 210 of the Commission's Rules of Practice and Procedure (19 CFR part 210).

By order of the Commission.
Issued: April 4, 2016.
Lisa R. Barton,
Secretary to the Commission.

[FR Doc. 2016-08060 Filed 4-7-16; 8:45 am]

BILLING CODE 7020-02-P